DEPARTMENT OF THE INTERIOR

Fish and Wildlife Service

50 CFR Part 17

[Docket Nos. FWS-R3-ES-2024-0137, FWS-R8-ES-2024-0041, and FWS-R7-ES-2024-0117; FXES1111090FEDR-256-FF09E21000]

RINs 1018-BE30; 1018-BH49; 1018-BI15

Endangered and Threatened Wildlife and Plants; Reopening Comment Periods for Three Proposed Rules; Announcement of a Public Hearing for One Proposed Rule

AGENCY: Fish and Wildlife Service, Interior.

ACTION: Proposed rules; reopening of the comment periods, announcement of public hearing.

SUMMARY: We, the U.S. Fish and Wildlife Service, announce that we are reopening the comment periods for proposed rules pertaining to three insect species: monarch butterfly (Danaus plexippus), bleached sandhill skipper (Polites sabuleti sinemaculata), and Suckley's cuckoo bumble bee (Bombus suckleyi). We also announce a public hearing for the bleached sandhill skipper. Comments previously submitted on these proposed rules need not be resubmitted as they are already incorporated into the public records for these rulemaking actions and will be fully considered in our development of the final rules.

DATES: Comment periods: The comment periods on the proposed rules that published on December 12, 2024, at 89 FR 100662, on December 17, 2024, at 89 FR 102074, and on January 8, 2025, at 90 FR 1421 are reopened until May 19, 2025. Comments submitted electronically using the Federal eRulemaking Portal (see ADDRESSES, below) must be received by 11:59 p.m. eastern time on the closing date.

Public hearing: On April 16, 2025, we will hold a public hearing on the proposed rule for the bleached sandhill skipper from 5 to 7 p.m., Pacific time, using the Zoom online platform (for more information, see Public Hearing, below).

ADDRESSES: Availability of documents: You may obtain copies of the proposed rules and associated documents on the internet at https://www.regulations.gov under the appropriate docket number (see table 1, below).

Comment submission: You may submit written comments by one of the following methods:

(1) Electronically: Go to the Federal eRulemaking Portal: https://www.regulations.gov. In the Search box, enter the appropriate docket number (see table 1, below). Then, click on the Search button. On the resulting page, in the panel on the left side of the screen, under the Document Type heading, check the Proposed Rule box to locate the correct document. You may submit a comment by clicking on “Comment.”

(2) By hard copy: Submit by U.S. mail to: Public Comments Processing, Attn: [Insert appropriate docket number; see table 1, below], U.S. Fish and Wildlife Service, MS: PRB/3W, 5275 Leesburg Pike, Falls Church, VA 22041-3803.

Public hearing: Interested parties may present verbal testimony (formal, oral comments) at a public hearing, which will be held virtually using the Zoom platform. See Public Hearing, below, for more information.

FOR FURTHER INFORMATION CONTACT: For information related to the monarch butterfly, bleached sandhill skipper, or Suckley's cuckoo bumble bee, contact John Tirpak, Manager of the Division of Conservation and Classification, U.S. Fish and Wildlife Service, Headquarters Office; telephone 703-358-2163. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION:

Background

Under the authority of the Endangered Species Act of 1973, as amended (Act; 16 U.S.C. 1531 et seq.), we, the U.S. Fish and Wildlife Service, published the following proposed rules:

• On December 12, 2024, we published a proposed rule to list the monarch butterfly as a threatened species with protective regulations under section 4(d) of the Act and to designate critical habitat for the species (89 FR 100662). The proposed rule opened a 90-day comment period, which ended March 12, 2025.

• On December 17, 2024, we published a proposed rule to list the Suckley's cuckoo bumble bee as an endangered species (89 FR 102074). The proposed rule opened a 60-day comment period, which ended February 18, 2025.

• On January 8, 2025, we published a proposed rule to list the bleached sandhill skipper as an endangered species (90 FR 1421). The proposed rule opened a 60-day comment period, which ended March 10, 2025.

To give all interested parties an additional opportunity to comment on all of these proposed rules, we are reopening the comment periods for each of the proposed rules described above for a period of 60 days. In response to a formal request from the Humboldt County Manager's Office received on January 24, 2025, we also announce a public hearing for the proposed rule pertaining to the bleached sandhill skipper as described above in DATES and ADDRESSES.

Please refer to the proposed rules for more information on our proposed actions and the specific information we seek. Additional information about the proposed rules, including supplementary materials and the comments received, is available in their respective dockets on https://www.regulations.gov.

We request that you send written comments only by the methods described above. We will post all comments on https://www.regulations.gov. This generally means that we will post any personal information you provide us (see Public Comments, below, for more information).

Table 1—Proposed Rules With Reopened Public Comment Periods
Proposed rule title | Federal Register citation | Docket No.
Threatened Species Status With Section 4(d) Rule for Monarch Butterfly and Designation of Critical Habitat | 89 FR 100662; December 12, 2024 | FWS-R3-ES-2024-0137.
Endangered Species Status for Suckley's Cuckoo Bumble Bee | 89 FR 102074; December 17, 2024 | FWS-R7-ES-2024-0117.
Endangered Species Status for the Bleached Sandhill Skipper | 90 FR 1421; January 8, 2025 | FWS-R8-ES-2024-0041.

Public Hearing

We are holding a public hearing to accept comments on the proposed rule to list the bleached sandhill skipper on the date and at the time listed in DATES. We are holding the public hearing via the Zoom online video platform and via teleconference so that participants can attend remotely. For security purposes, registration is required. All participants must register in order to listen and view the hearing via Zoom, listen to the hearing by telephone, or provide oral public comments at the public hearing by Zoom or telephone.

For information on how to register, or if you encounter problems joining Zoom the day of the meeting, visit https://www.fws.gov/office/reno-fish-and-wildlife. Registrants will receive the Zoom link and the telephone number for the public hearing. If applicable, interested members of the public not familiar with the Zoom platform should view the Zoom video tutorials (https://support.zoom.us/hc/en-us/categories/200101697-Getting-Started-with-Zoom) prior to the public hearing.

The public hearing will provide interested parties an opportunity to present verbal testimony (formal, oral comments) regarding the January 8, 2025, proposed rule to list the bleached sandhill skipper as an endangered species (90 FR 1421). The purpose of the public hearing is to provide a forum for accepting formal verbal testimony, which will then become part of the record for the proposed rule. In the event there is a large attendance, the time allotted for verbal testimony may be limited. Therefore, anyone wishing to provide verbal testimony at the public hearing is encouraged to provide a prepared written copy of their statement to us through the Federal eRulemaking Portal or U.S. mail (see ADDRESSES, above). There are no limits on the length of written comments submitted to us. Anyone wishing to provide verbal testimony at the public hearing must register before the hearing. For information on how to register, visit https://www.fws.gov/office/reno-fish-and-wildlife. The use of a virtual public hearing is consistent with our regulations at 50 CFR 424.16(c)(3).

Reasonable Accommodations

The U.S. Fish and Wildlife Service is committed to providing access to the public hearing for all participants. Closed captioning will be available during the public hearing. Further, a full audio and video recording and transcript of the public hearing will be posted online at https://www.fws.gov/office/reno-fish-and-wildlife after the hearing. Participants will also have access to live audio during the public hearing via their telephone or computer speakers. Persons with disabilities requiring reasonable accommodations to participate in the hearing should contact the person listed under FOR FURTHER INFORMATION CONTACT at least 5-business days prior to the date of the hearing to help ensure availability. An accessible version of the U.S. Fish and Wildlife Service's public hearing presentation will also be posted online at https://www.fws.gov/office/reno-fish-and-wildlife prior to the hearing (see DATES, above). See https://www.fws.gov/office/reno-fish-and-wildlife for more information about reasonable accommodations.

Public Comments

If you already submitted comments or information on the December 12, 2024 (89 FR 100662), December 17, 2024 (89 FR 102074), or January 8, 2025 (90 FR 1421) proposed rules, please do not resubmit them. Any such comments are incorporated as part of the public record of the rulemaking proceeding, and we will fully consider them in the preparation of our final determination.

Comments should be as specific as possible. Please include sufficient information with your submission (such as scientific journal articles or other publications) to allow us to verify any scientific or commercial information you include. Please note that submissions merely stating support for, or opposition to, the action under consideration without providing supporting information, although noted, will not be considered in making a determination, as section 4(b)(1)(A) of the Act directs that determinations as to whether any species is an endangered species or a threatened species must be made solely on the basis of the best scientific and commercial data available, and section 4(b)(2) of the Act directs that the Secretary shall designate critical habitat on the basis of the best scientific data available.

You may submit your comments and materials by one of the methods listed in ADDRESSES. We request that you send comments only by the methods described in ADDRESSES. If you submit information via https://www.regulations.gov, your entire submission—including your personal identifying information—will be posted on the website. If your submission is made via a hardcopy that includes personal identifying information, you may request at the top of your document that we withhold this information from public review. However, we cannot guarantee that we will be able to do so. We will post all hardcopy submissions on https://www.regulations.gov.

Paul Souza,
Regional Director, Region 8, Exercising the Delegated Authority of the Director, U.S. Fish and Wildlife Service.

[FR Doc. 2025-04443 Filed 3-18-25; 8:45 am]

BILLING CODE 4333-15-P